DEPARTMENT OF TRANSPORTATION

Federal Aviation Administration

14 CFR Part 97

[Docket No. 30587; Amdt. No. 3251]

Standard Instrument Approach Procedures, and Takeoff Minimums and Obstacle Departure Procedures; Miscellaneous Amendments

AGENCY: Federal Aviation Administration (FAA), DOT.

ACTION: Final rule.

SUMMARY: This Rule establishes, amends, suspends, or revokes Standard Instrument Approach Procedures (SIAPs) and associated Takeoff Minimums and Obstacle Departure Procedures for operations at certain airports. These regulatory actions are needed because of the adoption of new or revised criteria, or because of changes occurring in the National Airspace System, such as the commissioning of new navigational facilities, adding new obstacles, or changing air traffic requirements. These changes are designed to provide safe and efficient use of the navigable airspace and to promote safe flight operations under instrument flight rules at the affected airports.

DATES: This rule is effective January 24, 2008. The compliance date for each SIAP, associated Takeoff Minimums, and ODP is specified in the amendatory provisions.

The incorporation by reference of certain publications listed in the regulations is approved by the Director of the Federal Register as of January 24, 2008.

ADDRESSES: Availability of matters incorporated by reference in the amendment is as follows:

For Examination—

1. FAA Rules Docket, FAA Headquarters Building, 800 Independence Avenue, SW., Washington, DC 20591;

2. The FAA Regional Office of the region in which the affected airport is located;

3. The National Flight Procedures Office, 6500 South MacArthur Blvd., Oklahoma City, OK 73169 or,

4. The National Archives and Records Administration (NARA). For information on the availability of this material at NARA, call 202-741-6030, or go to: http://www.archives.gov/federal_register/code_of_federal_regulations/ibr_locations.html.

Availability—All SIAPs and Takeoff Minimums and ODPs are available online free of charge. Visit nfdc.faa.gov to register. Additionally, individual SIAP and Takeoff Minimums and ODP copies may be obtained from:

1. FAA Public Inquiry Center (APA-200), FAA Headquarters Building, 800 Independence Avenue, SW., Washington, DC 20591; or

2. The FAA Regional Office of the region in which the affected airport is located.

FOR FURTHER INFORMATION CONTACT: Harry. J. Hodges, Flight Procedure Standards Branch (AFS-420), Flight Technologies and Programs Division, Flight Standards Service, Federal Aviation Administration, Mike Monroney Aeronautical Center, 6500 South MacArthur Blvd., Oklahoma City, OK 73169 (Mail Address: P.O. Box 25082, Oklahoma City, OK 73125) telephone: (405) 954-4164.

SUPPLEMENTARY INFORMATION: This rule amends Title 14 of the Code of Federal Regulations, Part 97 (14 CFR part 97), by establishing, amending, suspending, or revoking SIAPs, Takeoff Minimums and/or ODPs. The complete regulatory description of each SIAP and its associated Takeoff Minimums or ODP for an identified airport is listed on FAA form documents which are incorporated by reference in this amendment under 5 U.S.C. 552(a), 1 CFR part 51, and 14 CFR part 97.20. The applicable FAA Forms are FAA Forms 8260-3, 8260-4, 8260-5, 8260-15A, and 8260-15B when required by an entry on 8260-15A.

The large number of SIAPs, Takeoff Minimums and ODPs, in addition to their complex nature and the need for a special format make publication in the Federal Register expensive and impractical. Furthermore, airmen do not use the regulatory text of the SIAPs, Takeoff Minimums or ODPs, but instead refer to their depiction on charts printed by publishers of aeronautical materials. Thus, the advantages of incorporation by reference are realized and publication of the complete description of each SIAP, Takeoff Minimums, and ODP listed on FAA forms is unnecessary. This amendment provides the affected CFR sections and specifies the types of SIAPs and the effective dates of the SIAPs, the associated Takeoff Minimums, and ODPs. This amendment also identifies the airport and its location, the procedure, and the amendment number.

The Rule

This amendment to 14 CFR part 97 is effective upon publication of each separate SIAP, Takeoff Minimums and ODP as contained in the transmittal. Some SIAP and Takeoff Minimums and textual ODP amendments may have been issued previously by the FAA in a Flight Data Center (FDC) Notice to Airmen (NOTAM) as an emergency action of immediate flight safety relating directly to published aeronautical charts. The circumstances which created the need for some SIAP and Takeoff Minimums and ODP amendments may require making them effective in less than 30 days. For the remaining SIAPs and Takeoff Minimums and ODPs, an effective date at least 30 days after publication is provided.

Further, the SIAPs and Takeoff Minimums and ODPs contained in this amendment are based on the criteria contained in the U.S. Standard for Terminal Instrument Procedures (TERPS). In developing these SIAPs and Takeoff Minimums and ODPs, the TERPS criteria were applied to the conditions existing or anticipated at the affected airports. Because of the close and immediate relationship between these SIAPs, Takeoff Minimums and ODPs, and safety in air commerce, I find that notice and public procedure before adopting these SIAPs, Takeoff Minimums and ODPs are impracticable and contrary to the public interest and, where applicable, that good cause exists for making some SIAPs effective in less than 30 days.

Conclusion

The FAA has determined that this regulation only involves an established body of technical regulations for which frequent and routine amendments are necessary to keep them operationally current. It, therefore—(1) Is not a “significant regulatory action” under Executive Order 12866; (2) is not a “significant rule” under DOT Regulatory Policies and Procedures (44 FR 11034; February 26, 1979); and (3) does not warrant preparation of a regulatory evaluation as the anticipated impact is so minimal. For the same reason, the FAA certifies that this amendment will not have a significant economic impact on a substantial number of small entities under the criteria of the Regulatory Flexibility Act.

List of Subjects in 14 CFR Part 97

Air Traffic Control, Airports, Incorporation by reference, and Navigation (Air).

Issued in Washington, DC on December 28, 2007.
James J. Ballough,
Director, Flight Standards Service.

Adoption of the Amendment

Accordingly, pursuant to the authority delegated to me, under Title 14, Code of Federal Regulations, Part 97 (14 CFR part 97) is amended by establishing, amending, suspending, or revoking Standard Instrument Approach Procedures and/or Takeoff Minimums and/or Obstacle Departure Procedures effective at 0901 UTC on the dates specified, as follows:

PART 97— STANDARD INSTRUMENT APPROACH PROCEDURES

1. The authority citation for part 97 continues to read as follows:

Authority: 49 U.S.C. 106(g), 40103, 40106, 40113, 40114, 40120, 44502, 44514, 44701, 44719, 44721-44722.

2. Part 97 is amended to read as follows:

Effective 14 FEB 2008

Bettles, AK, Bettles, LOC/DME RWY 1, Amdt 5A

Gadsden, AL, Northeast Alabama Regional, RNAV (GPS) RWY 6, Orig

Gadsden, AL, Northeast Alabama Regional, RNAV (GPS) RWY 18, Orig

Gadsden, AL, Northeast Alabama Regional, RNAV (GPS) RWY 24, Orig

Gadsden, AL, Northeast Alabama Regional, RNAV (GPS) RWY 36, Orig

Gadsden, AL, Northeast Alabama Regional, GPS RWY 24, Orig-B, CANCELLED

Gadsden, AL, Northeast Alabama Regional, VOR RWY 6, Amdt 13

Gadsden, AL, Northeast Alabama Regional, Takeoff Minimums and Obstacle DP, Amdt 3

Mobile, AL, Mobile Regional, ILS OR LOC RWY 14, Amdt 30

Mobile, AL, Mobile Regional, ILS OR LOC RWY 32, Amdt 6A

Mobile, AL, Mobile Regional, RNAV (GPS) RWY 14, Amdt 1

Mobile, AL, Mobile Regional, RNAV (GPS) RWY 32, Amdt 1

Mobile, AL, Mobile Regional, Takeoff Minimums and Obstacle DP, Orig

Troy, AL, Troy Muni, RNAV (GPS) RWY 14, Orig

Troy, AL, Troy Muni, RNAV (GPS) RWY 25, Orig

Troy, AL, Troy Muni, RNAV (GPS) RWY 32, Orig

Benton, AR, Saline County/Watts Field, GPS RWY 17, Orig-A, (CANCELLED)

Benton, AR, Saline County/Watts Field, GPS RWY 35, Orig-A, (CANCELLED)

Benton, AR, Saline County/Watts Field, VOR-A, Amdt 6, Orig-A, (CANCELLED)

Pagosa Springs, CO, Stevens Field, RNAV (GPS)-A, Orig

Pagosa Springs, CO, Stevens Field, Takeoff Minimums and Obstacle DP, Orig

LaVerne, CA, Brackett Field, ILS RWY 26L, Amdt 3

LaVerne, CA, Brackett Field, LOC RWY 26L, Orig

Modesto, CA, Modesto City-Co-Harry Sham Fld, ILS O RLOC/DME RWY 28R, Amdt 14

Placerville, CA, Placerville, RNAV (GPS) RWY 5, Orig

Placerville, CA, Placerville, GPS RWY 5, Amdt 1A, CANCELLED

Placerville, CA, Placerville, Takeoff Minimums and Obstacle DP, Amdt 2

Adel, GA, Cook County, RNAV (GPS) RWY 5, Orig

Adel, GA, Cook County, GPS RWY 5, Orig, CANCELLED

Augusta, GA, Augusta Regional At Bush Field, Takeoff Minimums and Obstacle DP, Amdt 12

Augusta, GA, Daniel Field, Takeoff Minimums and Obstacle DP, Amdt 5

Canton, GA, Cherokee County, RNAV (GPS) RWY 4, ORIG

Canton, GA, Cherokee County, GPS RWY 4, Amdt 1, CANCELLED

Thomson, GA, Thomson-McDuffie County, Takeoff Minimums and Obstacle DP, Orig

Vidalia, GA, Vidalia Regional, Takeoff Minimums and Obstacle DP, Amdt 1

Corning, IA, Corning Muni, RNAV (GPS) RWY 18, Orig

Corning, IA, Corning Muni, NDB RWY 18, Amdt 2

Benton, KS, Lloyd Strearman Field, RNAV (GPS) RWY 17, Orig

Benton, KS, Lloyd Strearman Field, GPS RWY 17, Orig, (CANCELLED)

Danville, KY, Stuart Powell Field, RNAV (GPS) RWY 12, Orig

Danville, KY, Stuart Powell Field, RNAV (GPS) RWY 30, Orig

Danville, KY, Stuart Powell Field, NDB-A, Amdt 8

Lafayette, LA, VOR RWY 4R, Amdt 2, (CANCELLED)

Austin, MN, Austin Muni, RNAV (GPS) RWY 17, Orig

Austin, MN, Austin Muni, VOR/DME-A, Amdt 2

Austin, MN, Austin Muni, VOR RWY 17, Amdt 2

Austin, MN, Austin Muni, VOR RWY 35, Amdt 2

Austin, MN, Austin Muni, Takeoff Minimums and Obstacle DP, Orig

Jackson, MN, Jackson Muni, RNAV (GPS) RWY 13, Orig

Jackson, MN, Jackson Muni, RNAV (GPS) RWY 31, Orig

Jackson, MN, Jackson Muni, GPS RWY 31, Amdt 1, (CANCELLED)

Jackson, MN, Jackson Muni, Takeoff Minimum and Obstacle DP, Orig

Harrisonville, MO, Lawrence Smith Memorial, RNAV (GPS) RWY 17, Orig

Harrisonville, MO, Lawrence Smith Memorial, RNAV (GPS) RWY 35, Orig

Harrisonville, MO, Lawrence Smith Memorial, GPS RWY 35, Orig-A, (CANCELLED)

Harrisonville, MO, Lawrence Smith Memorial, Takeoff Minimums and Obstacle DP, Orig

Corinth, MS, Roscoe Turner, ILS OR LOC RWY 18, Amdt 2

Corinth, MS, Roscoe Turner, RNAV (GPS) RWY 18, Amdt 1

Corinth, MS, Roscoe Turner, RNAV (GPS) RWY 36, Orig

Corinth, MS, Roscoe Turner, Takeoff Minimums and Obstacle DP, Orig

Winona, MS, Winona-Montgomery County, RNAV (GPS) RWY 3, Orig

Winona, MS, Winona-Montgomery County, RNAV (GPS) RWY 21, Orig

Winona, MS, Winona-Montgomery County, Takeoff Minimums and Obstacle DP, Orig

Rutherfordton, NC, Rutherford Co/Marchman Field, LOC RWY 1, Amdt 2A

Beatrice, NE, Beatrice Muni, VOR RWY 13, Amdt 17

Beatrice, NE, Beatrice Muni, VOR RWY 17, Amdt 1

Beatrice, NE, Beatrice Muni, VOR RWY 35, Amdt 8

Beatrice, NE, Beatrice Muni, Takeoff Minimums and Obstacle DP, Orig

Omaha, NE, Epply Field, ILS OR LOC RWY 32L, Amdt 1

Omaha, NE, Epply Field, ILS OR LOC/DME RWY 14L, Amdt 1

Omaha, NE, Epply Field, ILS OR LOC/DME RWY 14R, ILS RWY 14R (CAT II), ILS RWY 14R (CAT III), Amdt 4

Omaha, NE, Epply Field, RNAV (GPS) RWY 14L, Amdt 1

Omaha, NE, Epply Field, Takeoff Minimums and Obstacle DP, Orig

Las Vegas, NV, North Las Vegas, Takeoff Minimums and Obstacle DP, Amdt 3

Wagoner, OK, Hefner-Easley, RNAV (GPS) RWY 18, Amdt 1

Wagoner, OK, Hefner-Easley, RNAV (GPS) RWY 36, Amdt 1

Wagoner, OK, Hefner-Easley, Takeoff Minimums and Obstacle DP, Orig

Factoryville, PA, Seamans Field, RNAV (GPS) RWY 4, Orig

Factoryville, PA, Seamans Field, VOR OR GPS-A, Amdt 1, CANCELLED

Factoryville, PA, Seamans Field, Takeoff Minimums and Obstacle DP, Amdt 2

Aiken, SC, Aiken Muni, Takeoff Minimums and Obstacle DP, Amdt 1

Charleston, SC, Charleston AFB/Intl, Takeoff Minimums and Obstacle DP, Amdt 6

Arlington, TX, Arlington Muni, ILS OR LOC/DME RWY 34, Orig-A

Dallas, TX, Dallas Executive, ILS OR LOC RWY 31. Amdt 8

Ingleside, TX, T P MC Campbell, RNAV (GPS) RWY 13, Amdt 1

Ingleside, TX, T P MC Campbell, RNAV (GPS) RWY 31, Amdt 1

Kountze/Silsbee, TX, Hawthorne Field, RNAV (GPS) RWY 13, Orig

Kountze/Silsbee, TX, Hawthorne Field, NDB RWY 13, Amdt 3

Kountze/Silsbee, TX, Hawthorne Field, Takeoff Minimums and Obstacle DP, Orig

Luray, VA, Luray Caverns, NDB-A, Amdt 6

Luray, VA, Luray Caverns, RNAV (GPS) RWY 22, Orig

Luray, VA, Luray Caverns, GPS RWY 22, Amdt 1, CANCELLED

Pasco, WA, Tri-Cities, ILS OR LOC RWY 21R, Amdt 11A

Pasco, WA, Tri-Cities, RNAV (GPS) RWY 3L, Orig

Pasco, WA, Tri-Cities, RNAV (GPS) RWY 12, Orig

Pasco, WA, Tri-Cities, RNAV (GPS) RWY 30, Amdt 1

Pasco, WA, Tri-Cities, VOR RWY 21R, Amdt 5A

Appleton, WI, Outagamie County Regional, ILS OR LOC RWY 3, Amdt 17

Effective 13 MAR 2008

Rockland, ME, Knox County Regional, ILS OR LOC RWY 13, Amdt 1C

Waterville, MD, Waterville Robert LaFleur, ILS OR LOC RWY 5, Amdt 2B

Seattle, WA, Boeing Field/King County Intl, RNAV (GPS) Z RWY 13R, Orig-A

Effective 10 APR 2008

Oroville, CA, Oroville Muni, NDB RWY 1, Amdt 3, CANCELLED

Petaluma, CA, Petaluma Muni, VOR RWY 29, Orig, CANCELLED

Red Bluff, CA, Red Bluff Muni, NDB RWY 33, Amdt 2A, CANCELLED

Burlington, VT, Burlington Intl, ILS OR LOC/DME RWY 33, Amdt 1

Burlington, VT, Burlington Intl, Takeoff Minimums and Obstacle DP, Amdt 12

Newport, VT, Newport State, NDB-A, Amdt 3, CANCELLED

The FAA published an Amendment in Docket No. 30583, Amdt No. 3247 to Part 97 of the Federal Aviation Regulations (Vol 72, FR No. 239, Page 70774; dated December 13, 2007) under section 97.29 effective 14 February 2008, which is hereby rescinded as follows:

Cahokia/St Louis, IL, St Louis Downtown, ILS OR LOC RWY 30L, Amdt 9

[FR Doc. E8-853 Filed 1-23-08; 8:45 am]

BILLING CODE 4910-13-P